DEPARTMENT OF DEFENSE

Department of the Army

[USA-2006-0024]

Privacy Act of 1974; System of Records

AGENCY: Department of the Army, DoD.

ACTION: Notice to alter a system of records.

SUMMARY: The Department of the Army proposes to alter a system of records notice in its inventory of records systems subject to the Privacy Act of 1974, (5 U.S.C. 552a), as amended.

DATES: This proposed action will be effective without further notice on August 23, 2006 unless comments are received which result in a contrary determination.

ADDRESSES: Send comments to Department of the Army, Freedom of Information/Privacy Division, U.S. Army Records Management and Declassification Agency, ATTN: AHRC-PDD-FPZ, 7701 Telegraph Road, Casey Building, Suite 144, Alexandria, VA 22325-3905.

FOR FURTHER INFORMATION CONTACT: Ms. Janice Thornton at (703) 428-6503.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on July 14, 2006, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: July 17, 2006.
C.R. Choate,
Alternate Federal Register Liaison Officer, Department of Defense.

A0210-50 DAIM

System name:

Army Housing Operations Management System (HOMS) (April 21, 2006, 71 FR 20651).

changes:

* * * * *

System name:

Delete entry and replace with: “Army Housing Operations Management Systems (HOMES).”

* * * * *

Categories of records in the system:

Delete entry and replace with: “Applications for on/off post housing containing name, service branch, Social Security Number, rank/grade and date, service data, organization of assignment, home address and telephone number; records reflecting housing availability/assignment/termination; housing financial records; referral services; property inventories, inventory listing, and issue slips; cost control, job orders; survey data; other management reports regarding the Army housing system, complaints and investigations; and similar relevant documents. Deposit waiver agreements with off-post landlords/rental officers and with utility companies for both on-post and off-post residents.”

Authority for maintenance of the system:

Add “Pub. L. 104-106, Military Housing Privatization initiative (MHPI) Act of 1996” to the entry.

Purpose(s):

Delete entry and replace with: “To provide information relating to the management, operation, and control of the Army housing program; to provide housing and related services for military personnel, their dependents, and qualified civilian employees; to render reports; to investigate complaints and related matters.”

In addition to those disclosures generally permitted under 5 U.S.C. 552a(b) of the Privacy Act, these records or information contained therein may specifically be disclosed outside the DoD as a routine use pursuant to 5 U.S.C. 552a(b)(3) as follows: Add the following paragraph: “To the Residential Community Initiatives (RCI), a private non-governmental entity, to execute the privatization of residential communities for Soldiers and their families under the authority of Military Housing Privatization initiative (MHPI) Act of 1996.”

* * * * *

Safeguards:

Delete entry and replace with: “Records are maintained in areas accessible only to authorized persons having official need. Records are housed in buildings protected by security guards or locked when not in use. Information in automated media is further protected by physical security devices; access to or update of information in the system is protected through a system of passwords and usage of the Common Access Cards (CACs), thereby preserving integrity of data.”

Retention and disposal:

Delete entry and replace with: “Army Family Housing, Unaccompanied Personnel Housing and Off-Post housing files are destroyed after 3 years; installation housing project tenancy files are destroyed 3 years after termination of quarters occupancy; family housing leasing files are destroyed 3 years after lease terminates is canceled, lapses, or after any litigation is concluded; housing, facility and complaint records are destroyed after 10 years; housing referral services are destroyed after 5 years; off-post rental housing reports are destroyed after 2 years; and off-post housing complaints and investigation are destroyed 10 years after completion at office having Army-wide responsibility.”

System manager(s) and address:

Delete “Chief” and replace with “IT Team Leader.” Delete “Automation” and replace with “Division”.

Notification procedure:

Delete entry and replace with: “Individuals seeking to determine whether information about themselves is contained in this system should address written inquires to the IT Team Leader, Army Housing Division, Office of the Assistant Chief of Staff for Installation Management, Directorate of Facilities and Housing, ATTN: DAIM-FDH, 600 Army Pentagon, Washington, Dc 20310-0600.

Individual should provide name, address and last assignment location.”

Record access procedures:

Delete entry and replace with: “Individuals seeking access to information about themselves contained in this system should address written inquiries the IT Team Leader, Army Housing Division, Office of the Assistant Chief of Staff for Installation Management, Directorate of Facilities and Housing, ATTN: DAIM-FDH, 600 Army Pentagon, Washington, DC 20310-0600.

Individual should provide name, address and last assignment location.”

Record source categories:

Delete entry and replace with: “From the individual, his/her personnel records, tenants/landlords and realty activities, utility companies, privatization partners, financial institutions, and previous employers/commanders, and the Defense Enrollment Eligibility Reporting System (DEERS) database.”

* * * * *

A0210-50 DAIM

System name:

Army Housing Operations Management Systems (HOMES).

System location:

Office of the Assistant Chief of staff for Installation Management, Directorate of Facilities and Housing, ATTN: DAIM-FDH, 2511 Jefferson Davis Hwy, Arlington, VA 22202-3926.

Secondary location: Offices of Facilities and Housing at major Army commands, field operating agencies, installations and activities, Army-wide. Official mailing addresses are published as an appendix to the Army's compilation of systems of records notices.

Categories of individuals covered by the system:

Military personnel, their dependents, and Department of Defense civilian personnel.

Categories of records in the system:

Applications for on/off post housing containing name, service branch, Social Security Number, rank/grade and data, service data, organization of assignment, home address and telephone number; records reflecting housing availability/assignment/termination; housing financial records; referral services; property inventories, inventory listing, and issue slips; costs control, job orders; survey data; other management reports regarding the Army housing system, complaints and investigations; and similar relevant documents. Deposit waiver agreements with off-post landlords/rental officers and with utility companies for both on-post and off-post residents.

Authority for maintenance of the system:

10 U.S.C. 3013, Secretary of the Army; Public Law 104-106, Military Housing Privatization Initiative (MHPI) Act of 1996; DoD Directive 4165.63, DoD Housing; Army Regulation 210-50, Housing Management; and E.O. 9397 (SSN).

Purpose(s):

To provide information relating to the management, operation, and control of the Army housing program; to provide housing and related services for military personnel, their dependents, and qualified civilian employees; to render reports; to investigate complaints and related matters.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Department of Housing and Urban Development to resolve and/or adjudicate matters falling within their jurisdiction.

To the Residential Community Initiatives (RCI), a private non-governmental entity, to execute the privatization of residential communities for Soldiers and their families under the authority of Military Housing Privatization Initiative (MHPI) Act of 1996.

The ‘Blanket Routine Uses’ set forth at the beginning of the Army's compilation of systems of records notices also apply to this system.

Policies and practices for storing, retrieving, accessing, retaining, and disposing of records in the system:

Storage:

Paper records, computer tapes, discs, and printouts.

Retrievability:

By individual's surname and/or Social Security Number.

Safeguards:

Records are maintained in areas accessible only to authorized persons having official need. Records are housed in buildings protected by security guards or locked when not in use. Information in automated media is further protected by physical security devices; access to or update of information in the system is protected through a system of passwords and usage of the Common Access Cards (CACs), thereby preserving integrity of data.

Retention and disposal:

Army Family Housing, Unaccompanied Personnel Housing and Off-Post housing files are destroyed after 3 years; installation housing project tenancy files are destroyed 3 years after termination of quarters occupancy; family housing leasing files are destroyed 3 years after lease terminates is canceled, lapses, or after any litigation is concluded; housing, facility and complaint records are destroyed after 10 years; housing referral services are destroyed after 5 years; off-post rental housing reports are destroyed after 2 years; and off-post housing complaints and investigation are destroyed 10 years after completion at office having Army-wide responsibility.

System manager(s) and address:

IT Team Leader, Army Housing Division, Office of the Assistant Chief of Staff for Installation Management, Directorate of Facilities and Housing, ATTN: DAIM-FDH, 600 Army Pentagon, Washington, DC 20310-0600.

Notification procedure:

Individuals seeking to determine whether information about themselves is contained in this system should address written inquiries to the IT Team Leader, Army Housing Division, Office of the Assistant Chief of Staff for Installation Management, Directorate of Facilities and Housing, ATTN: DAIM-FDH, 600 Army Pentagon, Washington, DC 20310-0600.

Individual should provide name, address and last assignment location.

Record access procedures:

Individuals seeking access to information about themselves contained in this system should address written inquiries the IT Team Leader, Army Housing Division, Office of the Assistant Chief of Staff for Installation Management, Directorate of Facilities and Housing, ATTN: DAIM-FDH, 600 Army Pentagon, Washington, DC 20310-0600.

Individual should provide name, address and last assignment location.

Contesting record procedures:

The Army's rules for accessing records, and for contesting contents and appealing initial agency determinations are contained in Army Regulation 340-21; 32 CFR part 505; or may be obtained from the system manager.

Record source categories:

From the individual, his/her personnel records, tenants/landlords and realty activities, utility companies, privatization partners, financial institutions, and previous employers/commanders, and the Defense Enrollment Eligibility Reporting System (DEERS) database.

Exemptions claimed for the system:

None.

[FR Doc. 06-6413 Filed 7-21-06; 8:45 am]

BILLING CODE 5001-06-M